DEPARTMENT OF HEALTH AND HUMAN SERVICES

Centers for Medicare and Medicaid Services

[Document Identifier: CMS-10043]

Agency Information Collection Activities: Submission for OMB Review; Comment Request

In compliance with the requirement of section 3506(c)(2)(A) of the Paperwork Reduction Act of 1995, the Centers for Medicare and Medicaid Services (CMS), Department of Health and Human Services, has submitted to the Office of Management and Budget (OMB) the following proposal for the collection of information. Interested persons are invited to send comments regarding the burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection; Title of Information Collection: Evaluation of the BadgerCare Medicaid Demonstration; Form No.: CMS-10043 (OMB# 0938-NEW); Use: The subject surveys are components of the CMS evaluation of the Wisconsin BadgerCare Section 1115 Medicaid demonstration and Title XXI (SCHIP) program. The goals of the evaluation are to assess the effectiveness of BadgerCare in reducing the number of Wisconsin residents who lack health insurance, increasing participation of eligible children in the SCHIP program, and supporting families making transitions from welfare to work. Other specific features of BadgerCare will be examined as well, including the State's outreach efforts and policy of charging premiums to selected families. Findings from the study will help to inform CMS policy regarding Medicaid demonstrations and SCHIP, and will help states in designing similar health insurance programs; Frequency: Other: One time; Affected Public: Individuals or Households; Number of Respondents: 5,680; Total Annual Responses: 5,680; Total Annual Hours: 1,914.

To obtain copies of the supporting statement for the proposed paperwork collections referenced above, access CMS's WEB SITE ADDRESS at http://www.hcfa.gov/regs/prdact95.htm, or E-mail your request, including your address and phone number, to Paperwork@hcfa.gov, or call the Reports Clearance Office on (410) 786-1326. Written comments and recommendations for the proposed information collections must be mailed within 30 days of this notice directly to the OMB Desk Officer designated at the following address: OMB Human Resources and Housing Branch, Attention: Allison Eydt, New Executive Office Building, Room 10235, Washington, D.C. 20503.

Dated: August 14, 2001.
John P. Burke III,
CMS Reports Clearance Officer, CMS, Office of Information Services, Security and Standards Group, Division of CMS Enterprise Standards.

[FR Doc. 01-21942 Filed 8-29-01; 8:45 am]

BILLING CODE 4120-03-P